ENVIRONMENTAL PROTECTION AGENCY

[ER-FRL-9053-4]

Environmental Impact Statements; Notice of Availability

Responsible Agency: Office of Federal Activities, General Information 202-564-5632 or https://www.epa.gov/nepa.

Weekly receipt of Environmental Impact Statements (EIS)

Filed October 5, 2020 10 a.m. EST Through October 9, 2020 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200202, Final, GSA, AZ, Expansion and Modernization of the San Luis I Land Port of Entry, Review Period Ends: 11/16/2020, Contact: Osmahn A. Kadri 415-760-9239

EIS No. 20200203, Draft, USAF, VA, Fifth Generation Formal Training Unit Optimization, Comment Period Ends: 11/30/2020, Contact: Nolan Swick 210-925-3392

EIS No. 20200204, Final, BIA, OK, Osage County Oil and Gas, Review Period Ends: 11/16/2020, Contact: Mosby Halterman 918-781-4660

EIS No. 20200205, Second Draft Supplemental, USACE, MS, Draft Supplement No. 2 to the Final Supplement No. 1 to the 1982 Yazoo Area Pump Project Final Environmental Impact Statement, Comment Period Ends: 11/30/2020, Contact: Kenneth Parrish 601-631-5006

Dated: October 13, 2020.
Cindy S. Barger,
Director, NEPA Compliance Division, Office of Federal Activities.

[FR Doc. 2020-22931 Filed 10-15-20; 8:45 am]

BILLING CODE 6560-50-P